DEPARTMENT OF TRANSPORTATION

Federal Aviation Administration

14 CFR Part 71

[Docket No. FAA-2011-0444; Airspace Docket No. 11-AAL-07]

Revision of Class E Airspace; Talkeetna, AK

AGENCY: Federal Aviation Administration (FAA), DOT.

ACTION: Final rule.

SUMMARY: This action revises Class E airspace at Talkeetna, AK, to accommodate the amendment of four Standard Instrument Approach Procedures and the Obstacle Departure Procedure at Talkeetna Airport. The FAA is taking this action to enhance safety and management of Instrument Flight Rules (IFR) operations at the Talkeetna Airport.

DATES: Effective 0901 UTC, October 20, 2011. The Director of the Federal Register approves this incorporation by reference action under title 1, Code of Federal Regulations, part 51, subject to the annual revision of FAA Order 7400.9 and publication of conforming amendments.

FOR FURTHER INFORMATION CONTACT: Martha Dunn, AAL-538G, Federal Aviation Administration, 222 West 7th Avenue, Box 14, Anchorage, AK 99513-7587; telephone number (907) 271-5898; fax: (907) 271-2850; e-mail: Martha.ctr.Dunn@faa.gov. Internet address: http://www.faa.gov/about/office_org/headquarters_offices/ato/service_units/systemops/fs/alaskan/rulemaking/.

SUPPLEMENTARY INFORMATION:

History

On Thursday, May 12, 2011, the FAA published a notice of proposed rulemaking (NPRM) in the Federal Register to revise Class E airspace at Talkeetna, AK (76 FR 27619).

Interested parties were invited to participate in this rulemaking proceeding by submitting written comments on the proposal to the FAA. One comment was received noting that the longitude of the Talkeetna VOR/DME was incorrect. The FAA agrees and will correct the error.

The Class E airspace areas are published in paragraphs 6002 and 6005, respectively, of FAA Order 7400.9U, Airspace Designations and Reporting Points, signed August 18, 2010, and effective September 15, 2010, which is incorporated by reference in 14 CFR 71.1. The Class E airspace designations listed in this document will be published subsequently in the Order. With the exception of editorial changes, and the changes described above, this rule is the same as that proposed in the NPRM.

The Rule

This action amends Title 14 Code of Federal Regulations (14 CFR) part 71 by revising Class E airspace at the Talkeetna Airport, Talkeetna, AK, to accommodate four amended standard instrument approach procedures and the revised obstacle departure procedure. This Class E surface airspace and Class E airspace extending upward from 700 and 1,200 feet above the surface is necessary for the safety and management of IFR operations at the airport.

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. Because this is a routine matter that will only affect air traffic procedures and air navigation, it is certified that this rule will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it creates Class E airspace sufficient in size to contain aircraft executing instrument procedures for the Talkeetna Airport and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9U, Airspace Designations and Reporting Points, signed August 18, 2010, and effective September 15, 2010, is amended as follows:

Paragraph 6002 Class E Airspace Designated as Surface Areas

* * * * *

AAL AK E2 Talkeetna, AK [Revised]

Talkeetna Airport, AK

(Lat. 62°19′14″ N., long. 150°05′37″ W.)

Talkeetna VOR/DME

(Lat. 62°17′55″ N., long. 150°06′20″ W.)

Within a 5-mile radius of the Talkeetna Airport, and within 2.5 miles each side of the Talkeetna VOR/DME 191° radial and within 1 mile each side of the Talkeetna VOR/DME 207° radial extending from the 5-mile radius to 8.4 miles southwest of the airport. This Class E airspace area is effective during the specific dates and times established in advance by a Notice to Airmen. The effective date and time will thereafter be continuously published in the Supplement Alaska (Airport/Facility Directory).

* * * * *

Paragraph 6005 Class E Airspace Extending Upward From 700 Feet or More Above the Surface of the Earth

* * * * *

AAL AK E5 Talkeetna, AK [Revised]

Talkeetna Airport, AK

(Lat. 62°19′14″ N., long. 150°05′37″ W.)

Talkeetna VOR/DME

(Lat 62°17′55″ W., long. 150°06′20″ W.)

That airspace extending upward from 700 feet above the surface within a 7.5-mile radius of the Talkeetna Airport and within 3.2 miles each side of the Talkeetna VOR/DME 191° radial and within 2.5 miles each side of the Talkeetna VOR/DME 207° radial extending from the 7.5-mile radius to 12.4 miles southwest of the airport and that airspace extending upward from 1,200 feet above the surface within a 72-mile radius of Talkeetna Airport.

Issued in Anchorage, AK, on July 12, 2011.
Michael A. Tarr,
Manager, Alaska Flight Services.

[FR Doc. 2011-18451 Filed 7-21-11; 8:45 am]

BILLING CODE 4910-13-P